DEPARTMENT OF AGRICULTURE

Submission for OMB Review; Comment Request

September 28, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by November 2, 2017 will be considered. Written comments should be addressed to: Desk Officer for Agriculture, Office of Information and Regulatory Affairs, Office of Management and Budget (OMB), New Executive Office Building, 725-17th Street NW., Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Grain Inspection, Packers & Stockyards Administration

Title: Regulations and Statement of General Policy Issued under the Packers and Stockyards Act, and Related Reporting and Recordkeeping Requirements—Packers and Stockyards Programs.

OMB Control Number: 0580-0015.

Summary of Collection: The Grain Inspection, Packers and Stockyards Administration (GIPSA) administers the provisions of the Packers and Stockyards Act of 1921 (Act), as amended and supplemented (7 U.S.C. 181-229c). The Act is designed to protect the financial interests of livestock and poultry producers engaged in commerce of livestock and live poultry sold for slaughter. It also protects members of the livestock and poultry marketing, processing, and merchandising industries from unfair, unjustly discriminatory, deceptive, or anti-competitive practices in the livestock, meat, and poultry industries. GIPSA will collect information using several forms.

Need and Use of the Information: GIPSA requires regulated entities in the livestock, meat packing, and poultry industries to keep records, submit information to GIPSA, and provide information to third parties. GIPSA will collect information to monitor and examine financial, competitive and trade practices in the livestock, meatpacking, and poultry industries. Also, the information will help assure that the regulated entities do not engage in unfair, unjustly discriminatory, or deceptive trade practices or anti-competitive behavior.

Description of Respondents: Business or other for-profit.

Number of Respondents: 16,205.

Frequency of Responses: Recordkeeping; Third party disclosure; Reporting: On occasion; Semi-annually; Annually.

Total Burden Hours: 348,328.

Charlene Parker,
Departmental Information Collection Clearance Officer.

[FR Doc. 2017-21164 Filed 10-2-17; 8:45 am]

BILLING CODE 3410-KD-P